DEPARTMENT OF TRANSPORTATION

Federal Aviation Administration

Second Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held March 8-10, 2005, starting at 9 a.m.

ADDRESSES: The meeting will be held at The MITRE Corporation, 7525 Colshire Dr., Building 1, South Lobby Entrance, McLean, Virginia 22102-7508.

FOR FURTHER INFORMATION CONTACT: (1) RTCA Secretariat, 1828 L Street, NW., Suite 805, Washington, DC 20036; telephone (202) 833-9339; fax (202) 833-9434; Web site http://www.rtca.org; MITRE Contact: Mr. Matthew DeGarmo; telephone (703) 883-7320.

Note: Foreign National attendees must e-mail their contact information to Ms. Marca Johnson at marca@direcway.com no later than March 2, 2005; contact info should include the company you are representing and your country of origin. Additionally you will be required to present your passport for admission to MITRE for this meeting. All participants should be prepared to show photo identification.

SUPPLEMENTARY INFORMATION: Pursuant to section 10(a)(2) of the Federal Advisory Committee Act (Pub. L. 92-463, 5 U.S.C., Appendix 2), notice is hereby given for a Special Committee 135 meeting. The agenda will include:

• March 8:

• Opening Plenary Session (Welcome and Introductory Remarks, Approval of First Plenary Summary, Resolve Parking Lot Issues from First Plenary).

• Review SC-203 Activities since First Plenary.

• Presentation and Formulation of Proposed Work Plan.

• Organize Writing Teams.

• March 9:

• Break into Writing Teams, Commence Tasks.

• March 10:

• Writing Teams Continue Tasks as necessary.

• Reform the Plenary.

• Closing Plenary Session (Writing Teams Report Out, Other Business, Review Actions Items/Work Program, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 4, 2005.
Natalie Ogletree,
FAA General Engineer, RTCA Advisory Committee.

[FR Doc. 05-3016 Filed 2-16-05; 8:45 am]

BILLING CODE 4910-13-M